DEPARTMENT OF THE INTERIOR

Bureau of Indian Affairs

Gaming on Trust Lands Acquired After October 17, 1988; Submission to the Office of Management and Budget

AGENCY: Bureau of Indian Affairs, Interior.

ACTION: Notice.

SUMMARY: In compliance with the Paperwork Reduction Act of 1995, the Bureau of Indian Affairs (BIA) is submitting the information collection request for review and renewal by the Office of Information and Regulatory Affairs (OIRA), Office of Management and Budget (OMB). The collection is: Gaming on Trust Lands Acquired after October 17, 1988, OMB Control Number 1076-0158.

DATES: Submit your comments and suggestions on or before February 20, 2007 to be assured of consideration.

ADDRESSES: Written comments should be sent directly to the Office of Management and Budget, Office of Information and Regulatory Affairs, Attention: Desk Officer for the Department of the Interior, either by facsimile at 202-395-6566 or by e-mail at OIRA_DOCKET@omb.eop.gov.

Send a copy of your comments to: Mr. George Skibine, Bureau of Indian Affairs, Office of Indian Gaming, Mail Stop 3657-MIB, 1849 C Street, NW., Washington, DC 20240.

FOR FURTHER INFORMATION CONTACT: Interested persons may obtain copies of the information collection requests without charge by contacting George Skibine at 202-219-4066 or facsimile number 202-273-3153.

SUPPLEMENTARY INFORMATION: The Paperwork Reduction Act of 1995 provides an opportunity for interested parties to comment on proposed information collection requests. We did not receive any comments during the request for comments period published October 25, 2006 (71 FR 62486). The Bureau of Indian Affairs, Office of Indian Gaming, is proceeding with requesting an information collection clearance from OMB. Each request contains (1) Type of review, (2) title, (3) summary of the collection, (4) respondents, (5) frequency of collection, (6) reporting and record keeping requirements.

Please note that we will not sponsor nor conduct, and you need not respond to, a request for information unless we display the OMB control number and the expiration date.

Gaming on Trust Lands Acquired After October 17, 1988

Type of review: Renewal.

Title: Gaming on Trust Lands Acquired after October 17, 1988, 25 CFR 292.

Summary: The collection of information will ensure that the provisions of the Indian Gaming Regulatory Act, the relevant provisions of State laws, Federal law and the trust obligations of the United States are met when federally recognized tribes seek a secretarial determination that a gaming establishment would be in the best interest of the tribe and would not be detrimental to the surrounding community. Section 292.8 specifies the information collection requirement. An Indian tribe must ask the Secretary to make a determination that a gaming establishment would be in the best interest of the tribe and would not be detrimental to the surrounding community. The information to be collected includes: name of tribe, tribal documents, description of the land to be acquired, proof of ownership, distance of land from the Indian tribe's reservation or trust lands and other documents deemed necessary. Collection of this information is currently authorized under an approval by OMB (OMB Control Number 1076-0158). All information is collected when the tribe submits a request for a secretarial determination that a gaming establishment would be in the best interest of the tribe and would not be detrimental to the surrounding community. Annual reporting and record keeping burden for this collection of information is estimated to average 1,000 hours each from approximately 2 respondents, including the time for reviewing instructions, researching existing data sources, gathering and maintaining the data needed, and completing and reviewing the collection of information, thus, the total annual reporting and record keeping burden for this collection is estimated to be 2,000 hours.

Frequency of Collection: On occasion.

Description of Respondents: Federally recognized tribes.

Total Respondents: 2.

Response Hours per Application: 1000.

Total Annual Burden Hours: 2,000 hours.

Request for Comments

The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility and clarity of the information to be collected; and

(4) Minimize the burden of the collection of the information on those who are to respond.

The Office of Management and Budget has 60 days in which to determine whether the collection will be renewed but may make a decision after 30 days. Therefore, to receive the most consideration, comments should be sent closer to 30 days than 60 days after the notice is published in the Federal Register.

Dated: December 20, 2006.
Michael D. Olsen,
Principal Deputy Assistant Secretary—Indian Affairs.

[FR Doc. E7-758 Filed 1-18-07; 8:45 am]

BILLING CODE 4310-4N-P